DEPARTMENT OF THE INTERIOR

Bureau of Land Management

[NV-930-1430-ET; NVN-75209; 8-08807]

Public Land Order No. 7713; Partial Revocation of Public Land Order No. 7619 Dated October 6, 2004; Nevada

AGENCY: Bureau of Land Management, Interior.

ACTION: Public Land Order.

SUMMARY: This order partially revokes a Public Land Order insofar as it affects approximately 1,099.51 acres, more or less, of public lands withdrawn from surface entry and mining for the Bureau of Land Management to protect public health and safety and to perform site reclamation activities of the Paradise Peak and County Line mines. The lands surrounding the County Line mine have been reclaimed and are no longer needed for reclamation purposes. This order opens those lands to surface entry and mining. The lands surrounding the Paradise Peak mine have not undergone complete reclamation and will remain withdrawn.

DATES: Effective Date: September 3, 2008.

FOR FURTHER INFORMATION CONTACT: Jacqueline Gratton, BLM, Nevada State Office, P.O. Box 12000, 1340 Financial Blvd., Reno, Nevada 89520, 775-861-6532.

SUPPLEMENTARY INFORMATION: Reclamation has been completed at the County Line mine site and the Bureau of Land Management has determined that the withdrawal is no longer needed to protect the public lands.

Order

By virtue of the authority vested in the Secretary of the Interior by Section 204 of the Federal Land Policy and Management Act of 1976, 43 U.S.C. 1714 (2000), it is ordered as follows:

1. Public Land Order No. 7619 (69 FR 62286 (2004)), which withdrew land from surface entry and mining on behalf of the Bureau of Land Management to protect public health and safety and to perform reclamation activities at the County Line mine site, is hereby revoked insofar as it affects the following described lands:

Mount Diablo Meridian

T. 10 N., R. 35 E.,

Sec. 1, lots 1, 8, 9, 16, and 17, and E½SE¼.

T. 10 N., R. 36 E.,

Sec. 6, lots 1 to 18, inclusive, E½SW¼, and SE¼.

The areas described aggregate 1,099.51 acres, more or less, in Mineral and Nye counties.

2. At 9 a.m. on September 3, 2008, the lands described in Paragraph 1 will be opened to all forms of appropriation under the public land laws generally, subject to valid existing rights, the provisions of existing withdrawals, other segregations of record, and the requirements of applicable law. All valid applications received at or prior to 9 a.m. on September 3, 2008, shall be considered as simultaneously filed at that time. Those received thereafter shall be considered in the order of filing.

3. At 9 a.m. on September 3, 2008, the lands described in Paragraph 1 shall be opened to location and entry under the United States mining laws subject to valid existing rights, the provisions of existing withdrawals, other segregations of record, and the requirements of applicable law. Appropriation of the lands under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: June 13, 2008.
C. Stephen Allred,
Assistant Secretary—Land and Minerals Management.

[FR Doc. E8-17833 Filed 8-1-08; 8:45 am]

BILLING CODE 4310-HC-P